DEPARTMENT OF EDUCATION

[CFDA No. 84.359A/B]

Office of Elementary and Secondary Education; Early Reading First Program; Correction; Notice Correcting the Deadline for Transmittal of Pre-Applications Date

ACTION: Correction; Notice correcting the deadline for Transmittal of Pre-Applications Date.

SUMMARY: We correct the Deadline for Transmittal of Pre-Applications in the notice published on January 18, 2006 (71 FR 2916).

SUPPLEMENTARY INFORMATION: On January 18, 2006, we published a notice in the Federal Register inviting applications for new awards for fiscal year 2006 for the Early Reading First program. The date listed under Deadline for Transmittal of Pre-Applications was incorrect, in that it falls on a Federal holiday. The correct Deadline for Transmittal of Pre-Applications date is February 21, 2006.

FOR FURTHER INFORMATION CONTACT: Jill Stewart, U.S. Department of Education, 400 Maryland Avenue, SW., room 3C136, Washington, DC 20202-6132. Telephone: (202) 260-2533 or by e-mail: Jill.Stewart@ed.gov or Rebecca Haynes, U.S. Department of Education, 400 Maryland Avenue, SW., room 3C138, Washington, DC 20202-6132. Telephone: (202) 260-0968 or by e-mail: Rebecca.Haynes@ed.gov.

If you use a telecommunications device for the deaf (TDD), you may call the Federal Relay Service (FIRS) at 1-800-877-8339.

Individuals with disabilities may obtain this document in an alternative format (e.g., Braille, large print, audiotape, or computer diskette) on request to the program contact persons listed in this section.

Electronic Access to This Document

You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

For additional program information call one of the program contact persons listed in this section between the hours of 8 a.m. and 5 p.m., Eastern Time, Monday through Friday.

Note: The official version of this document is the document published in the Federal Register. Free Internet access to the official edition of the Federal Register and the Code of Federal Regulations is available on GPO Access at: www.gpoaccess.gov/nara/index.html.

Dated: January 19, 2006.
Henry L. Johnson,
Assistant Secretary for Elementary and Secondary Education.

[FR Doc. E6-827 Filed 1-23-06; 8:45 am]

BILLING CODE 4000-01-P